INTERNATIONAL TRADE COMMISSION

[Investigation No. 731-TA-677 (Review)]

Coumarin From China

Determination

On the basis of the record ¹ developed in the subject five-year review, the United States International Trade Commission determines, pursuant to section 751(c) of the Tariff Act of 1930 (19 U.S.C. 1675(c)), that revocation of the antidumping duty order on coumarin from China would be likely to lead to continuation or recurrence of material injury to an industry in the United States within a reasonably foreseeable time.

¹ The record is defined in sec. 207.2(f) of the Commission's Rules of Practice and Procedure (19 C.F.R. § 207.2(f)).

Background

The Commission instituted this review on December 30, 1999 (64 FR 73576, December 30, 1999) and determined on April 6, 2000 that it would conduct an expedited review (65 FR 24504, April 26, 2000). The Commission transmitted its determination in this review to the Secretary of Commerce on May 30, 2000. The views of the Commission are contained in USITC Publication 3305 (May 2000), entitled Coumarin From China: Investigation No. 731-TA-677 (Review).

Issued: May 31, 2000.
By order of the Commission.
Donna R. Koehnke,
Secretary.

[FR Doc. 00-14316 Filed 6-6-00; 8:45 am]

BILLING CODE 7020-02-P